DEPARTMENT OF EDUCATION

Program of Research on Reading Comprehension

AGENCY: Office of Educational Research and Improvement, Department of Education.

ACTION: Notice of proposed priority.

SUMMARY: The Assistant Secretary proposes a priority for a Program of Research on Reading Comprehension. The Assistant Secretary may use this priority for competitions in fiscal year (FY) 2002 and in later fiscal years. We take this action to build a scientific foundation for educational practice by supporting rigorous research on reading comprehension. We intend this priority to produce research findings that will change instructional practice and promote academic achievement.

DATES: We must receive your comments on or before February 21, 2002.

ADDRESSES: Address all comments about this proposed priority to Anne P. Sweet or Rita Foy Moss, U.S. Department of Education, 555 New Jersey Avenue, NW., room 513, Washington, DC 20208-5573. You can fax your comments to (202) 219-2135. If you prefer to send your comments through the Internet, use one of the following addresses: anne.sweet@ed.gov or rita.foy@ed.gov.

FOR FURTHER INFORMATION CONTACT: Anne P. Sweet or Rita Foy Moss. Telephone: (202) 219-2079.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION:

Invitation to Comment

We invite you to submit comments regarding this proposed priority. We also invite you to assist us in complying with the specific requirements of Executive Order 12866 and its overall requirement of reducing regulatory burden that might result from this proposed priority. Please let us know of any further opportunities we should take to reduce potential costs or increase potential benefits while preserving the effective and efficient administration of the program.

During and after the comment period, you may inspect all public comments about this proposed priority in room 510, 555 New Jersey Avenue, NW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this proposed priority. If you want to schedule an appointment for this type of aid, please contact the person listed under FOR FURTHER INFORMATION CONTACT.

Background

The Office of Educational Research and Improvement (OERI), authorized under Title IX of Public Law 103-227, (20 U.S.C. 6001 et seq.) supports research and development activities designed to provide essential knowledge for the improvement of education. Although significant advances have been made in knowledge about early reading skills, much less is known about reading comprehension. The Secretary believes that reading comprehension is necessary for academic achievement in virtually all school subjects and for economic self-sufficiency in cognitively demanding job environments. Thus, improving reading comprehension in this country, and providing all members of society with equal opportunities to attain a high level of literacy, require a focused program of educational research. Knowledge gained from such educational research can help guide the national investment in education and support local and State reform efforts. Because this targeted program of research focuses on an enduring problem of practice, it will be the primary mechanism for pursuing new knowledge about reading comprehension. Research grant awards can be made to institutions of higher education, regional education laboratories, public and private organizations, institutions, and individuals, or a consortium thereof. The Secretary invites comments on the priority described in this notice.

Prior to this announcement, OERI reviewed the Report of the National Reading Panel (2000) and the RAND Reading Study Group Report (2001) to identify the most needed reading research and development activities. Following this review, OERI prepared this notice of proposed priority, recognizing that critical frontiers for reading research, such as deriving empirically-grounded theories of comprehension development and reading instruction across the full range of ages and grades, have barely been broached in the research literature. OERI's Program of Research on Reading Comprehension (PRRC) is intended to expand scientific knowledge of how students develop proficient levels of reading comprehension, how reading comprehension can be taught most optimally, and how reading comprehension can be assessed in ways that reflect as well as advance our current understanding of reading comprehension and its development. An overarching goal of the program is to obtain converging empirical evidence on the development and assessment of comprehension that coheres with scientifically supported theories of the processes involved in reading comprehension. A further purpose is to provide a scientific foundation for approaches to comprehension instruction that allow students to achieve proficient levels of comprehension across a range of texts and subjects. The Secretary encourages review of the proposed priority by all interested parties.

We will announce the final priority in a notice in the Federal Register. We will determine the final priority after considering responses to this notice and other information available to the Department. This notice does not preclude us from proposing or funding additional priorities, subject to meeting applicable rulemaking requirements.

Note: This notice does not solicit applications. In any year in which we choose to use this proposed priority, we invite applications through a notice in the Federal Register. When inviting applications we designate the priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the priority (34 CFR 75.105(c)(2)(i)); or (2) selecting an application that meets the priority over an application of comparable merit that does not meet the priority (34 CFR 75.105(c)(2)(ii)).

Invitational priority: Under an invitational priority we are particularly interested in applications that meet the invitational priority. However, we do not give an application that meets the priority a competitive or absolute preference over other applications (34 CFR 75.105(c)(1)).

Priority

Program of Research on Reading Comprehension

Applicants must propose research that is focused on one or more of three areas of inquiry:

1. Developmental patterns of students' reading comprehension;

2. Instructional interventions for reading comprehension; or

3. Measures of reading comprehension that reflect empirically justified dimensions, distinguish reader differences, and are sensitive to instructional goals.

Furthermore, research must be motivated by a specific conceptual framework and relevant prior empirical evidence, both of which must be clearly articulated in the proposal. The research must have the potential to advance fundamental scientific knowledge that bears on the solution of important educational problems. The proposal must indicate method and why the approach taken optimally addresses the research question. Any approach must incorporate a valid inference process that allows generalization beyond the study participants. Proposals must indicate which of the following approaches is to be used:

1. Experiment (control group; randomized assignment—both required).

2. Quasi-experiment (comparison group, stratified random assignment, groups comparable at pretest, statistical adjustment for comparability).

3. Correlational study (simple, multiple/logistic regression, structural equation modeling, hierarchical linear modeling).

4. Other quantitative (e.g., simulation).

5. Descriptive study using qualitative techniques (e.g., ethnographic methods; focus groups; classroom observations; case studies; single subject designs).

The design of studies must be clear: Independent and dependent, or predictor and criterion, variables should be distinguished. Proposed research is expected to employ the most sophisticated level of design and analysis that is appropriate to the research question. For research questions that cannot be answered using a randomized assignment experimental design, the proposal must spell out the reasons why such a design is not applicable and why it would not represent a superior approach. Thus, applicants must propose to conduct rigorous studies that are scientifically sound, relevant, timely, and ultimately useful to practitioners and policy makers. The Secretary intends to expend a total of $5 million during FY 2002 on grant applications. Funding this priority will depend on the availability of funds, the nature of the final priority, and the quality of applications received.

Post-Award Requirements

The Secretary established the following post-award requirements consistent with the OERI's program regulations at 34 CFR part 700 and the Education Department General Administrative Regulations (EDGAR) at 34 CFR 75.720. Recipients of a research award must:

1. Provide OERI with information about the research project and products and other appropriate research information so that OERI can monitor progress and maintain its inventory of funded research projects. This information must be provided through media that include an electronic network;

2. At the end of the award period, synthesize the findings and advances in knowledge that resulted from research conducted and describe the potential impact on the improvement of reading comprehension instruction.

Electronic Access to This Document

You may view this document, as well as all other Department of Education documents published in the Federal Register, in text or Adobe Portable Document Format (PDF) on the Internet at the following site: www.ed.gov/legislation/FedRegister

To use PDF, you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

(Catalog of Federal Domestic Assistance Number (84.305G) Program of Research on Reading Comprehension)

Program Authority: 20 U.S.C. 6031.

Dated: January 15, 2002.
Grover J. Whitehurst,
Assistant Secretary for Educational Research and Improvement.

[FR Doc. 02-1480 Filed 1-18-02; 8:45 am]

BILLING CODE 4000-01-U